DEPARTMENT OF COMMERCE

Foreign-Trade Zones Board

[Docket 04-2012]

Foreign-Trade Zone 230—Piedmont Triad Area, NC; Application for Reorganization Under Alternative Site Framework

An application has been submitted to the Foreign-Trade Zones (FTZ) Board (the Board) by the Piedmont Triad Partnership, grantee of FTZ 230, requesting authority to reorganize the zone under the alternative site framework (ASF) adopted by the Board (74 FR 1170, 1/12/09 (correction 74 FR 3987, 1/22/09); 75 FR 71069-71070, 11/22/10). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on January 11, 2012.

FTZ 230 was approved by the Board on March 11, 1998 (Board Order 956, 63 FR 13836-13837, 3/23/98) and expanded on June 21, 2007 (Board Order 1514, 72 FR 35968, 07/02/07).

The current zone project includes the following sites: Site 1 (164 acres)—within the 206-acre Lexington Business Center, Hargrave Road and Business Interstate 5, Lexington (Davidson County); Site 2 (2,793 acres total, 3 parcels)—at Piedmont Triad International Airport area (Parcel 1, 2,722 acres), adjacent to U.S. 68 and U.S. 421, Greensboro (Guilford County); Bull Ridge Lot 1 (Parcel 2, 55 acres), Pleasant Ridge Road, Greensboro (Guilford County); and, 311 F and 311 G Chimney Rock Road (Parcel 3, 16 acres), Greensboro (Guilford County); Site 3 (157 acres total, 2 parcels)—within the East High Point I-85/I-74 Industrial Corridor in High Point (Guilford County) as follows: Elon Place and Kivett Drive (Parcel 1, 47 acres); and, Kivett Drive Industrial Park (Parcel 2, 110 acres), Kivett Drive and I-85; Site 4 (40 acres)—Salem Business Park, Interstate 40, U.S. Highway 52 and U.S. Highway 311, Winston-Salem (Forsyth County); Site 5 (125 acres)—Westwood Industrial Park, adjacent to U.S. Highway 52, Mt. Airy (Surry County); Site 6 (373 acres)—Piedmont Triad West, McKinney Road, Mt. Airy (Surry County); Site 7 (131 acres, sunset 6/30/12)—SouthPoint Business Park, 125 Quality Drive, Mocksville (Davie County); Site 8 (9 acres total, 2 parcels, sunset 6/30/12)—TST Logistics warehouse facilities, 533 North Park Avenue (Site 8A—7 acres) and 673 Gilmer Street (Site 8B—2 acres), Burlington (Alamance County); Site 9 (107 acres, sunset 6/30/12)—within the 112-acre Piedmont Corporate Park, located on National Service Road which runs parallel to Interstate 40, High Point (Guilford County); Site 10 (149 acres, sunset 6/30/12)—within the 163-acre Premier Center located at NC Highway 68 and Premier Drive, High Point (Guilford County); Site 11 (115 acres total, 4 parcels, sunset 6/30/12)—within the 1,100-acre Piedmont Centre Park in High Point as follows: Eagle Hill Business Park (Parcel A, 32 acres) located at 4183, 4189, 4193 and 4197 Eagle Hill Drive; Federal Ridge Business Park (Parcel B, 39 acres) at 4300, 4328, 4336, 4344, 4380 and 4388 Federal Drive; Green Point Business Park (Parcel C, 23 acres) located at 4500, 4501, 4523 and 4524 Green Point Drive; and, Lowell's Run (Parcel D, 21 acres) located at 4487 Premier Drive; Site 12 (4 acres, sunset 6/30/12)—TST Logistics warehouse facility, 1941 Haw River Hopedale Road, Haw River (Alamance County); Site 13 (2 acres, sunset 6/30/12)—TST Logistics warehouse facility, 821 West Center Street, Mebane (Alamance County); Site 14 (18 acres, expires 3/31/13)—Old Dominion Freight Line, Inc. warehouse facility, 100 Don Truell Lane, Thomasville (Davidson County); and Site 15 (36 acres)—Union Cross Business Park, 140 and 390 Business Park Drive, Winston-Salem (Forsyth County).

The grantee's proposed service area under the ASF would be Alamance, Caswell, Davidson, Davie, Forsyth, Guilford, Montgomery, Randolph, Rockingham, Stokes, Surry and Yadkin Counties, as described in the application. If approved, the grantee would be able to serve sites throughout the service area based on companies' needs for FTZ designation. The proposed service area is within/adjacent to the Winston-Salem Customs and Border Protection port of entry.

The applicant is requesting authority to reorganize its existing zone project under the ASF as follows: To renumber parcel 2 of Site 2 as Site 16; to renumber parcel 3 of Site 2 as Site 17; to renumber parcel 2 of Site 3 as Site 18; to renumber parcel 2 of Site 8 as Site 19; to renumber parcel A of Site 11 as Site 20; to renumber parcel C of Site 11 as Site 21; and to renumber parcel D of Site 11 as Site 22. Sites 1, 2, 3, 4, 5, 6, 7, 9, 10, 11, 16, 17, 18, 20, 21 and 22 would become magnet sites, and Sites 8, 12, 13, 14, 15 and 19 would become usage-driven sites.

The ASF allows for the possible exemption of one magnet site from the “sunset” time limits that generally apply to sites under the ASF, and the applicant proposes that modified magnet Site 2 would be so exempted. Because the ASF only pertains to establishing or reorganizing a general-purpose zone, the application would have no impact on FTZ 230's authorized subzones.

In accordance with the Board's regulations, Kathleen Boyce of the FTZ Staff is designated examiner to evaluate and analyze the facts and information presented in the application and case record and to report findings and recommendations to the Board.

Public comment is invited from interested parties. Submissions (original and 3 copies) shall be addressed to the Board's Executive Secretary at the address below. The closing period for their receipt is March 19, 2012. Rebuttal comments in response to material submitted during the foregoing period may be submitted during the subsequent 15-day period to April 3, 2012.

A copy of the application will be available for public inspection at the Office of the Executive Secretary, Foreign-Trade Zones Board, Room 2111, U.S. Department of Commerce, 1401 Constitution Avenue NW., Washington, DC 20230-0002, and in the “Reading Room” section of the Board's Web site, which is accessible via www.trade.gov/ftz. For further information, contact Kathleen Boyce at Kathleen.Boyce@trade.gov or (202) 482-1346.

Dated: January 11, 2012.
Andrew McGilvray,
Executive Secretary.

[FR Doc. 2012-979 Filed 1-18-12; 8:45 am]

BILLING CODE P